DEPARTMENT OF COMMERCE

International Trade Administration

(A-570-504)

Continuation of Antidumping Duty Order: Petroleum Wax Candles from the People's Republic of China (“PRC”)

AGENCY: Import Administration, International Trade Administration, Department of Commerce.

SUMMARY: As a result of the determinations by the Department of Commerce (“the Department”) and the International Trade Commission (“ITC”) that revocation of the antidumping duty order on petroleum wax candles (“candles”) from the PRC would likely lead to continuation or recurrence of dumping and material injury to an industry in the United States, the Department is publishing notice of the continuation of this antidumping duty order.

EFFECTIVE DATE: August 10, 2005

FOR FURTHER INFORMATION CONTACT: Maureen Flannery, AD/CVD Operations, Office 8, Import Administration, International Trade Administration, U.S. Department of Commerce, 14th Street and Constitution Ave., NW, Washington, DC 20230; telephone: (202) 482-3020.

SUPPLEMENTARY INFORMATION:

Background

On August 2, 2004, the Department initiated and the ITC instituted a sunset review of the antidumping duty order on candles from the PRC pursuant to section 751(c) of the Act. See Initiation of Five-year (“Sunset”) Reviews, 69 FR 46134 (August 2, 2004). As a result of its review, the Department found that revocation of the antidumping duty order would be likely to lead to continuation or recurrence of dumping and notified the ITC of the magnitude of the margins likely to prevail were the order to be revoked. See Petroleum Wax Candles from the People's Republic of China; Final Results of the Expedited Sunset Review of the Antidumping Duty Order, 69 FR 75302 (December 16, 2004).

On August 3, 2005, pursuant to section 751(c) of the Act, the ITC determined that revocation of the antidumping duty order on candles from the PRC would be likely to lead to continuation or recurrence of material injury to an industry in the United States within a reasonably foreseeable time. See Petroleum Wax Candles from the People's Republic of China, Investigation 731-TA-282 (Second Review), 70 FR 44695 (August 3, 2005).

Scope of the Order

The products covered by this order are certain scented or unscented petroleum wax candles made from petroleum wax and having fiber or paper-cored wicks. They are sold in the following shapes: tapers, spirals and straight-sided dinner candles; rounds, columns, pillars, votives; and various wax-filled containers. The products were originally classifiable under the Tariff Schedules of the United States item 755.25, Candles and Tapers. The products are currently classifiable under the Harmonized Tariff Schedule item number 3406.00.00. The Department determined several products were excluded from the scope of this order. For a complete list of the Department's scope rulings, please check our website at http://www.ia.ita.doc.gov/download/candles-prc-scope. Also, additional scope determinations are pending. The written description remains dispositive.

Determination

As a result of the determinations by the Department and the ITC that revocation of this antidumping duty order would be likely to lead to continuation or recurrence of dumping and material injury to an industry in the United States, pursuant to section 751(d)(2) of the Act, the Department hereby orders the continuation of the antidumping duty order on candles from the PRC.

U.S. Customs and Border Protection will continue to collect antidumping duty deposits at the rates in effect at the time of entry for all imports of subject merchandise. The effective date of continuation of this order is August 10, 2005. Pursuant to sections 751(c)(2) and 751(c)(6) of the Act, the Department intends to initiate the next five-year review of this order not later than August 2010.

Dated: September 20, 2005.
Joseph A. Spetrini,
Acting Assistant Secretary for Import Administration.

[FR Doc. 05-19508 Filed 9-28-05; 8:45 am]

BILLING CODE 3510-DS-S